DEPARTMENT OF LABOR

Employment and Training Administration

[TA-W-73,644]

Cinram Manufacturing, LLC, a Subsidiary of Cinram International, Including On-Site Leased Workers From Onesource Staffing Solutions and Canteen, Division of Compass Group, Olyphant, PA; Amended Certification Regarding Eligibility To Apply for Worker Adjustment Assistance

In accordance with Section 223 of the Trade Act of 1974, as amended (“Act”), 19 U.S.C. 2273, the Department of Labor issued a Certification of Eligibility to Apply for Worker Adjustment Assistance on July 16, 2010, applicable to workers of Cinram Manufacturing, LLC, a subsidiary of Cinram International, including on-site leased workers from OneSource Staffing Solutions, Olyphant, Pennsylvania. The workers are engaged in employment related to the production of optical media devices (DVDs, CDs, and Blu-ray discs)produce decorative metal products for appliances. The notice was published in the Federal Register on August 2, 2010 (75 FR 45162).

At the request of a petitioner, the Department reviewed the certification for workers of the subject firm. The company reports that workers leased from Canteen, a division of Compass Group were employed on-site at the Olyphant, Pennsylvania location of Cinram Manufacturing, LLC. The Department has determined that these workers were sufficiently under the control of Cinram Manufacturing, LLC to be considered leased workers.

Based on these findings, the Department is amending this certification to include workers leased from Canteen, a division of Compass Group working on-site at the Olyphant, Pennsylvania location of Cinram Manufacturing, LLC.

The amended notice applicable to TA-W-73,644 is hereby issued as follows:

All workers of Cinram Manufacturing, LLC, a subsidiary of Cinram International, including on-site leased workers from OneSource Staffing Solutions and Canteen, a division of Compass Group, Olyphant, Pennsylvania, who became totally or partially separated from employment on or after March 4, 2009, through July 16, 2012, and all workers in the group threatened with total or partial separation from employment on the date of certification through two years from the date of certification, are eligible to apply for adjustment assistance under Chapter 2 of Title II of the Trade Act of 1974, as amended.

Signed at Washington, DC, this 24th day of February 2011.
Michael W. Jaffe,
Certifying Officer, Office of Trade Adjustment Assistance.

[FR Doc. 2011-5647 Filed 3-11-11; 8:45 am]

BILLING CODE 4510-FN-P